FEDERAL ELECTION COMMISSION

Sunshine Act Meetings

AGENCY: Federal Election Commission.

Cancellations of Previously Announced Meetings

Tuesday, May 16, 2000, 10 a.m.

Meeting closed to the public.

Thursday, May 18, 2000, 10 a.m.

Meeting open to the public.

DATE AND TIME: Tuesday, May 23, 2000 at 10 a.m.

PLACE: 999 E Street NW, Washington, DC.

STATUS: This meeting will be closed to the public.

ITEMS TO BE DISCUSSED:

Compliance matters pursuant to 2 U.S.C. 437g.

Audits conducted pursuant to 2 U.S.C. 437g, 438a(b), and Title 26, U.S.C.

Matters concerning participation in civil actions or proceedings or arbitration.

Internal personnel rules and procedures or matters affecting a particular employee.

DATE AND TIME: Thursday, May 25, 2000 at 10 a.m.

PLACE: 999 E Street NW, Washington, DC (ninth floor).

STATUS: This meeting will be open to the public.

ITEMS TO BE DISCUSSED:

Correction and approval of Minutes

Draft Advisory Opinion 2000-06

Gerald M. Moan on behalf of the 2000 Convention Committee of the Reform Party U.S.A.

Draft Advisory Opinion 2000-07

Alcatel USA, Inc. by counsel, Jonathan B. Newton

Proposal to initiate a Notice of Proposed Rulemaking on Political Committee Definition (11 CFR 100.5)

Administrative matters.

PERSON TO CONTACT FOR INFORMATION: Ron Harris, Press Officer, telephone: (202) 694-1220.

Mary W. Dove,
Acting Secretary of the Commission.

[FR Doc. 00-12623 Filed 5-16-00; 11:39 am]

BILLING CODE 6715-01-M